FEDERAL COMMUNICATIONS COMMISSION

47 CFR Part 0

Commission Organization

CFR Correction

In Title 47 of the Code of Federal Regulations, Parts 0 to 19, revised as of October 1, 2008, on page 93, in § 0.607, reinstate paragraph (d) to read as follows:

§ 0.607 Transcript, recording or minutes; availability to the public.

* * * * *

(d) The Commissioner presiding at the meeting will prepare a statement setting out the time and place of the meeting, the names of persons other than Commission personnel who were present at the meeting, and the names of Commission personnel who participated in the discussion. These statements will be retained in a public file in the Minute and Rules Branch, Office of the Secretary.

[FR Doc. E9-23479 Filed 9-28-09; 8:45 am]

BILLING CODE 1505-01-D